DEPARTMENT OF ENERGY

Federal Energy Regulatory Commission

[Project No. P-10721-031]

Idaho Aviation Foundation; Notice of Application Tendered for Filing With the Commission and Soliciting Additional Study Requests

Take notice that the following hydroelectric application has been filed with the Commission and is available for public inspection.

a. Type of Application: Subsequent License.

b. Project No.: P-10721-031.

c. Date filed: February 28, 2020.

d. Applicant: Idaho Aviation Foundation.

e. Name of Project: Big Creek Hydroelectric Project.

f. Location: On McCorkle Creek near the town of Yellow Pine in Valley County, Idaho. The project would occupy 0.43 acre of United States lands administered by U.S. Forest Service.

g. Filed Pursuant to: Federal Power Act 16 U.S.C. 791 (a)-825(r).

h. Applicant Contact: Vic Jaro, Idaho Aviation Foundation, P.O. Box 2016, Eagle, Idaho 83616; (208) 404-9627; vjaro@filertel.com.

i. FERC Contact: Suzanne Novak (202) 502-6665; or email at Suzanne.novak@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 28, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10721-xxx.

m. The application is not ready for environmental analysis at this time.

n. The Big Creek Project consists of the following facilities: (1) A 2 foot-high, 2-foot-wide, 3-foot-long diversion structure with a check gate; (2) a 1,340-foot long, 4-inch diameter, PVC buried penstock with a screened inlet; (3) a 10-foot wide by 10-foot-long log generator house containing a single unit with an estimated installed capacity of 5 kilowatts and a maximum hydraulic capacity of 0.5 cfs, (4) an 18-inch diameter tailrace that returns all withdrawn water back to McCorkle Creek, (5) 350 feet of electrical cable buried in 2-inch-diameter PVC conduit leading to Big Creek Lodge, and (6) appurtenant facilities. The project operates in a run-of-river mode between mid-May and late October; it does not operate the remainder of the year. During the off-season, the diversion check gate is removed and 100 percent of streamflow returns to the creek and the penstock inlet is sealed. No changes to project operation or facilities are proposed.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary hydro licensing schedule. Revisions to the schedule will be made as appropriate.

Issue Notice of Acceptance | April 2020.
Issue Scoping Document 1 for comments | May 2020.
Comments on Scoping Document 1 due | June 2020.
Issue notice of ready for environmental analysis | July 2020.
Commission issues EA | February 2021.
Comments on EA due | March 2021.

Dated: March 3, 2020.
Kimberly D. Bose,
Secretary.

[FR Doc. 2020-04740 Filed 3-6-20; 8:45 am]

BILLING CODE 6717-01-P